DEPARTMENT OF ENERGY

Federal Energy Regulatory Commission

[Project No. 2524-021]

Grand River Dam Authority; Notice of Environmental Site Review

On June 11, 2014, Commission staff will hold an environmental site review for the Salina Pumped Storage Hydroelectric Project No. 2524-021. The project is located on the Saline Creek arm of Lake Hudson in the Grand River basin in Mayes County, Oklahoma. The purpose of the site review is to introduce the Commission's contractor team to the project. All participants should be prepared to provide their own transportation.

The site review will take place on Wednesday, June 11, 2014 at 10 a.m. c.s.t. at the project. The specific meeting place is TBD and will be provided to all registrants ahead of the site review.

All participants planning to attend the site visit should RSVP to Jacklyn Jaggars of the GRDA at jjaggars@grda.com or (918) 256-0723 by Friday, June 6, 2014.

If you have any questions, please contact either Stephen Bowler at (202) 502-6861 or via email at stephen.bowler@ferc.gov or Jeanne Edwards at (202) 502-6181 or via email at jeanne.edwards@ferc.gov.

Dated: May 12, 2014.
Kimberly D. Bose,
Secretary.

[FR Doc. 2014-11469 Filed 5-16-14; 8:45 am]

BILLING CODE 6717-01-P